DEPARTMENT OF TRANSPORTATION

Office of the Secretary

Notice of Applications for Certificates of Public Convenience and Necessity and Foreign Air Carrier Permits Filed Under Subpart Q During the Week Ending June 2, 2000

The following applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order or, in appropriate cases, a final order without further proceedings.

Docket Number: OST-2000-7446

Date Filed: May 30, 2000

Due Date for Answers, Conforming Applications, or Motion to Modify Scope: June 20, 2000.

Description: Application of Oneida Airlines, Inc. pursuant to 49 U.S.C. 41101 and subpart B, applies for a Certificate of Public Convenience and Necessity authorizing interstate scheduled air transportation of persons, property and mail under 49 U.S.C. 41102.

Dorothy Y. Beard,
Federal Register Liaison.

[FR Doc. 00-15084 Filed 6-14-00; 8:45 am]

BILLING CODE 4910-62-P